DEPARTMENT OF HOMELAND SECURITY

Coast Guard

33 CFR Parts 151, 155, and 160

[USCG-2008-1070]

RIN 1625-AB27

Nontank Vessel Response Plans and Other Vessel Response Plan Requirements

AGENCY: Coast Guard, DHS.

ACTION: Notice of public meetings; request for comments; correction.

SUMMARY: The Coast Guard is issuing a correction to an earlier document that published on September 25, 2009, in order to correct the date of the Washington, DC, public meeting. Our earlier notice listed 2 different dates for the same meeting; the correct date is October 28, 2009.

DATES: The public meetings will be held at the following locations:

• Washington, DC, October 28, 2009, from 1 p.m. to 3:30 p.m.

• Oakland, CA, November 3, 2009, from 1 p.m. to 3:30 p.m.

• New Orleans, LA, November 19, 2009, from 4:30 p.m. to 7 p.m.

Written comments and related material may also be submitted to Coast Guard personnel specified at that meeting. The comment period for the proposed rule closes November 30, 2009. All comments and related material submitted after the meeting must either be submitted to our online docket via http://www.regulations.gov on or before November 30, 2009, or reach the Docket Management Facility by that date.

ADDRESSES: The public meetings will be held at the following locations:

• Washington, DC—United States Coast Guard Headquarters Building, Room 4202, 2100 Second St., SW., Washington, DC 20593.

• Oakland, CA—Ronald V. Dellums Federal Building, Auditorium, 3rd Floor North Tower, 1301 Clay Street, Oakland, CA 94612.

• New Orleans, LA—Ernest N. Morial Convention Center, Room 208, Exhibit Hall A, 900 Convention Center Blvd., New Orleans, LA 70130.

You may submit written comments identified by docket number USCG-2008-1070 before or after the meeting using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. Our online docket for this rulemaking is available on the Internet at http://www.regulations.gov under docket number USCG-2008-1070.

FOR FURTHER INFORMATION CONTACT: If you have questions about this proposed rulemaking, contact Lieutenant Jarrod DeWitz, U.S. Coast Guard, Office of Vessel Activities, Vessel Response Plan Review Team, telephone (202) 372-1219. You may also e-mail questions to Jarrod.M.DeWitz@uscg.mil. If you have questions on viewing or submitting material to the docket, call Ms. Renee V. Wright, Program Manager, Docket Operations, telephone 202-366-9826.

SUPPLEMENTARY INFORMATION:

Background and Purpose

The Coast Guard is issuing this correction to an earlier notice that published on September 25, 2009, (74 FR 48891) in order to correct the date of the Washington, DC, public meeting. Our earlier notice listed 2 different dates for the same meeting; the correct date is October 28, 2009. The time/location of the Washington, DC, public meeting remains unchanged. The dates/times/locations for the Oakland, CA, and New Orleans, LA, public meetings remain unchanged.

We encourage you to participate in this rulemaking by submitting comments either orally at a meeting or in writing. If you bring written comments to a meeting, you may submit them to Coast Guard personnel specified at the meeting to receive written comments. These comments will be submitted to our online public docket. All comments received will be posted without change to http://www.regulations.gov and will include any personal information you have provided.

Anyone can search the electronic form of comments received into any of our dockets by the name of the individual submitting the comment (or signing the comment, if submitted on behalf of an association, business, labor union, etc.). You may review a Privacy Act notice regarding our public dockets in the January 17, 2008 issue of the Federal Register (73 FR 3316).

Information on Service for Individuals With Disabilities

For information on facilities or services for individuals with disabilities or to request special assistance at the public meeting, contact Lieutenant Jarrod DeWitz at the telephone number indicated under the FOR FURTHER INFORMATION CONTACT section of this notice.

Public Meeting

The Coast Guard will hold three public meetings regarding this proposed rulemaking on the following dates and at the following locations:

• Washington, DC, October 28, 2009, from 1 p.m. to 3:30 p.m., at the United States Coast Guard Headquarters Building, Room 4202, 2100 Second Street, SW., Washington, DC 20593. Note: A government-issued photo identification (for example, a driver's license) will be required for entrance to the building.

• Oakland, CA, November 3, 2009, from 1 p.m. to 3:30 p.m., at the Ronald V. Dellums Federal Building, Auditorium, 3rd Floor North Tower, 1301 Clay Street, Oakland, CA 94612. Note: A government-issued photo identification (for example, a driver's license) will be required for entrance to the building.

• New Orleans, LA, November 19, 2009, from 4:30 p.m. to 7 p.m., at the Ernest N. Morial Convention Center, Room 208, Exhibit Hall A, 900 Convention Center Blvd., New Orleans, LA 70130.

Members of the public may attend these meetings up to the seating capacity of the rooms. The meetings may conclude before the allotted time if all matters of concern have been addressed.

We plan to record each meeting using an audio-digital recorder and to make that audio recording available through a link in our online docket. A written summary of comments made and a list of attendees will be placed in the docket after each meeting concludes.

Dated: September 30, 2009.
Stefan G. Venckus,
Chief, Office of Regulations and Administrative Law, United States Coast Guard.

[FR Doc. E9-24008 Filed 10-5-09; 8:45 am]

BILLING CODE 4910-15-P